DEPARTMENT OF AGRICULTURE

Animal and Plant Health Inspection Service

[Docket No. 01-024-1]

Availability of Environmental Assessment for Field Release of Genetically Engineered Pink Bollworm

AGENCY: Animal and Plant Health Inspection Service, USDA.

ACTION: Notice.

SUMMARY: We are advising the public that an environmental assessment has been prepared for a proposed confined release into the environment of pink bollworm genetically engineered to express green fluorescence as a marker. The purpose of the release is to develop a marked strain of pink bollworm for performance studies in the pink bollworm sterile insect program. This environmental assessment is available to the public for review and comment.

DATES: We will consider all comments that we receive by July 23, 2001.

ADDRESSES: Please send four copies (an original and three copies) of your comments to: Docket No. 01-024-1, Regulatory Analysis and Development, PPD, APHIS, Suite 3C03, 4700 River Road Unit 118, Riverdale, MD 20737-1238.

Please state that your comment refers to Docket No. 01-024-1.

You may read a copy of the environmental assessment and any comments we receive on this notice of availability at USDA, room 1141, South Building, 14th Street and Independence Avenue SW., Washington, DC, between 8 a.m. and 4:30 p.m., Monday through Friday, except holidays. To be sure that someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Robert I. Rose, Biotechnology Assessments Section, PPQ, APHIS, 4700 River Road Unit 147, Riverdale, MD 20737-1236; (301) 734-8723. To obtain a copy of the environmental assessment, contact Ms. Kay Peterson at (301) 734-4885; e-mail: kay.peterson@aphis.usda.gov.

SUPPLEMENTARY INFORMATION: The regulations in 7 CFR part 340 (referred to as the regulations) regulate the introduction (importation, interstate movement, and release into the environment) of genetically engineered organisms and products that are plant pests or that there is reason to believe are plant pests (regulated articles). A permit must be obtained or a notification acknowledged before a regulated article may be introduced into the United States. The regulations set forth the permit application requirements and the notification procedures for the importation, interstate movement, and release into the environment of a regulated article.

On January 29, 2001, the Animal and Plant Health Inspection Service (APHIS) received a permit application (APHIS No. 01-029-01r) from APHIS' Plant Protection Center in Phoenix, AZ, for a permit to release the plant pest pink bollworm (PBW), Pectinophora gossypiella(Lepidoptera: Gelechiidae). The subject PBW has been genetically engineered to express an enhanced green fluorescent protein (EGFP) derived from the jellyfish Aequora victoria. The PBW expressing EGFP fluoreses when viewed under an ultraviolet light source. A piggyBac transposable element derived from the plant pest cabbage looper (Trichoplusia ni) was used to transform the subject PBW, and expression of the EGFP is controlled through use of the Drosophila melanogaster hsp70 and Bombyx mori actin A3 promoters. The subject transgenic PBW is considered a regulated article under the regulations in 7 CFR part 340 because the recipient organism is a plant pest and because it contains gene sequences from a plant pest. The proposed field test will be conducted under carefully controlled and confined conditions.

The transgenic PBW with EGFP as a marker has been developed for use in confined on site experimentation and field performance studies in the PBW sterile insect program, which is designed to depress PBW populations. The transgenic PBW will be reared in the Phoenix PBW genetic rearing facility, sterilized with radiation, and placed in escape-proof screen field cages near the facility, where they will undergo a series of fitness and related tests.

To provide the public with documentation of APHIS' review and analysis of any potential environmental impacts and plant pest risk associated with the proposed release of the transgenic EGFP PBW, an environmental assessment (EA) has been prepared. The EA was prepared in accordance with: (1) The National Environmental Policy Act of 1969 (NEPA), as amended (42 U.S.C. 4321 et seq), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 15th day of June 2001.
Craig A. Reed,
Administrator, Animal and Plant Health Inspection Service.

[FR Doc. 01-15604 Filed 6-20-01; 8:45 am]

BILLING CODE 3410-34-U